DEPARTMENT OF LABOR

Office of the Secretary

Submission for OMB Review: Comment Request

September 27, 2004.

The Department of Labor (DOL) has submitted the following public information collection requests (ICRs) to the Office of Management and Budget (OMB) for review and approval in accordance with the Paperwork Reduction Act of 1995 (Pub. L. 104-13, 44 U.S.C. chapter 35). A copy of each ICR, with applicable supporting documentation, may be obtained by contacting the Department of Labor (DOL). To obtain documentation, contact Darrin King on 202-693-4129 (this is not a toll-free number) or email: king.darrin@dol.gov.

Comments should be sent to Office of Information and Regulatory Affairs, Attn: OMB Desk Officer for the Occupational Safety and Health Administration (OSHA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension of currently approved collection.

Title: Ionizing Radiation 29 CFR 1910.1096.

OMB Number: 1218-0103.

Frequency: On occasion; monthly; quarterly; and annually.

Type of Response: Recordkeeping; Reporting; and Third party disclosure.

Affected Public: Business or other for-profit; Federal Government; and State, Local, or Tribal Government.

Number of Respondents: 12,719.

Number of Annual Responses: 198,579.

Estimated Time Per Response: Varies from 5 minutes to maintain records to 30 minutes for training-related tasks.

Total Burden Hours: 34,617.

Total Annualized capital/startup costs: $0.

Total Annual Costs (operating/maintaining systems or purchasing services): $2,022,648.

Description: The purpose of 29 CFR 1910.1096 and its information collection requirements is to provide protection for employees from the adverse health effects associated with occupational exposure to ionizing radiation.

Agency: Occupational Safety and Health Administration.

Type of Review: Extension of currently approved collection.

Title: Cranes and Derricks Standard for Construction (29 CFR 1926.550(a)(6)).

OMB Number: 1218-0113.

Frequency: Annually.

Type of Response: Recordkeeping.

Affected Public: Business or other for-profit; not-for-profit institutions; Federal Government; and State, Local, or Tribal Government.

Number of Respondents: 2,073.

Number of Annual Responses: 4,146.

Estimated Time Per Response: Varies from 4 hours to 5 hours and 30 minutes depending on establishment size.

Total Burden Hours: 9,329.

Total Annualized capital/startup costs: $0.

Total Annual Costs (operating/maintaining systems or purchasing services): $0.

Description: The purpose of the information collection requirements contained in 29 CFR 1926.550(a)(6) is to promote workplace safety by assuring that employees who operate powered platforms in the construction industry receive uniform and comprehensive instruction and information in the operation, safe use, and inspection of this equipment.

Agency: Occupational Safety and Health Administration.

Type of Review: Extension of currently approved collection.

Title: Powered Platforms for Building Maintenance (29 CFR 1910.66).

OMB Number: 1218-0121.

Frequency: On occasion; initially; monthly; and annually.

Type of Response: Recordkeeping and third party disclosure.

Affected Public: Business or other for-profit; not-for-profit institutions; Federal Government; and State, Local, or Tribal Government.

Number of Respondents: 900.

Number of Annual Responses: 182,848.

Estimated Time Per Response: Varies from 2 minutes to disclose a record to 10 hours to conduct the necessary inspection and prepare a certification record.

Total Burden Hours: 135,656.

Total Annualized capital/startup costs: $0.

Total Annual Costs (operating/maintaining systems or purchasing services): $0.

Description: The purpose of the information collection requirements contained in 29 CFR 1910.66 is to promote workplace safety by assuring that employees who operate powered platforms for building maintenance receive uniform and comprehensive instruction and information in the operation, safe use, and inspection of this equipment.

Agency: Occupational Safety and Health Administration.

Type of Review: Extension of currently approved collection.

Title: Standard on Manlifts (29 CFR 1910.68(e)).

OMB Number: 1218-0226.

Frequency: Monthly.

Type of Response: Recordkeeping.

Affected Public: Business or other for-profit; not-for-profit institutions; Federal Government; and State, Local, or Tribal Government.

Number of Respondents: 3,000.

Number of Annual Responses: 36,042.

Estimated Time Per Response: Varies from 2 minutes to disclose an inspection certification record to 1 hour to inspect a manlift.

Total Burden Hours: 37,801.

Total Annualized capital/startup costs: $0.

Total Annual Costs (operating/maintaining systems or purchasing services): $0.

Description: The purpose of the inspection and certification requirements of 29 CFR 1910.68(e) is to ensure that employers take the necessary preventive actions to protect the safety of workers using such equipment. The certification record is used by employers and OSHA compliance officers for determining the cumulative maintenance status of a manlift.

Dated:
Ira L. Mills,
Departmental Clearance Officer.

[FR Doc. 04-22327 Filed 10-4-04; 8:45 am]

BILLING CODE 4510-23-P